DEPARTMENT OF THE INTERIOR

National Park Service

Notice of Inventory Completion for Native American Human Remains in the Possession of the Tongass National Forest, U.S. Forest Service, Petersburg, AK

AGENCY: National Park Service, Interior.

ACTION: Notice.

Notice is hereby given in accordance with provisions of the Native American Graves Protection and Repatriation Act (NAGPRA), 43 CFR 10.9, of the completion of an inventory of human remains in the possession of the Tongass National Forest, U.S. Forest Service, Petersburg, AK.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by U.S. Forest Service professional staff in consultation with representatives of the Petersburg Indian Association and the Central Council of Tlingit and Haida Indian Tribes.

At an unknown date, human remains representing one individual were recovered from the coast of Mitkof Island that faces Wrangell Narrows by an unidentified individual from Petersburg, AK. The remains were donated to Tongass National Forest, U.S. Forest Service in 1986. The condition of the remains suggests that they were less than 500 years old. No known individual was identified. No associated funerary objects are present. The archeological record of southeastern Alaska documents cultural continuity over the last 4,000 years, demonstrating that the Stikine Tlingit territory has included Mitkof Island throughout that period.

Based on the results of morphometric analysis, the human remains are determined to be Native American. Ethnographic evidence indicates that Mitkof Island, where the remains were found, was within the traditional territory of the Stikine Tlingit at the time of deposition of the remains.

The Petersburg Indian Association represents the Stikine Tlingit for the purposes of repatriation of human remains from this part of Alaska. The Petersburg Indian Association has identified Mitkof Island as part of the traditional occupation territory for the Stikine Tlingit. There is no evidence to indicate otherwise.

Based on the above-mentioned information, officials of the U.S. Forest Service have determined that, pursuant to 43 CFR 10.2(d)(1), the human remains listed above represent the physical remains of one individual of Native American ancestry. Officials of the U.S. Forest Service have also determined that, pursuant to 43 CFR 10.2(e), there is a relationship of shared group identity that can be reasonably traced between these Native American human remains and the Petersburg Indian Association, representing the Stikine Tlingit. This notice has been sent to officials of the Petersburg Indian Association and the Central Council of the Tlingit and Haida Indian Tribes. Representatives of any other Indian tribe that believes itself to be culturally affiliated with these human remains should contact Carol Jorgensen, Assistant Forest Supervisor, Tongass National Forest, P.O. Box 309, Petersburg, AK, 99833, telephone (907) 772-3841, before September 15, 2000. Repatriation of the human remains to the Petersburg Indian Association, representing the Stikine Tlingit, may begin after that date if no additional claimants come forward.

Dated: August 10, 2000.
John Robbins,
Assistant Director, Cultural Resources Stewardship and Partnerships.

[FR Doc. 00-20826 Filed 8-15-00; 8:45 am]

BILLING CODE 4310-70-F